DEPARTMENT OF HEALTH AND HUMAN SERVICES

Administration for Children and Families

Notice of Correction for the Modified Standing Announcement for Services to Recently Arrived Refugees

AGENCY: Administration for Children and Families, ACF, DHHS.

Funding Opportunity Title: Modified Standing Announcement for Services to Recently Arrived Refugees.

ACTION: Notice of Correction.

Funding Opportunity Number: HHS-2004-ACF-ORR-RE-0004.

SUMMARY: This notice is to inform interested parties of a clarification made to the Modified Standing Announcement for Services to Recently Arrived Refugees published on Friday, April 23, 2004. The following clarification should be noted:

Clarification of Eligibility for Priority Area 1—Preferred Communities. Applicants applying for Priority Area 1—Preferred Communities should read Additional Information on Eligibility to prevent confusion as to Eligibility (Eligible Applicants) for this program area.

Eligible applicants are ten national voluntary agencies that currently resettle refugees under a Reception and Placement Cooperative Agreement with the Department of State or with the Department of Homeland Security. Priority Area 1—Preferred Communities is restricted to these agencies because placements of new arrivals occur under the terms of the cooperative agreements, and no other agencies place new arrivals or participate in determining their resettlement sites.

Nguyen Van Hanh,
Director, Office of Refugee Resettlement.

[FR Doc. 04-19175 Filed 8-19-04; 8:45 am]

BILLING CODE 4184-01-P